DEPARTMENT OF THE INTERIOR

Bureau of Reclamation

[RR03040000, 23XR0680A1, RX187860005004001]

Notice of Intent To Prepare an Environmental Impact Statement and Notice To Solicit Comments and Hold Public Scoping Meetings on the Development of Post-2026 Operational Guidelines and Strategies for Lake Powell and Lake Mead

AGENCY: Bureau of Reclamation, Interior.

ACTION: Notice and request for comments.

SUMMARY: The Secretary of the Interior (Secretary) has directed the Bureau of Reclamation (Reclamation) to develop post-2026 Colorado River reservoir operational guidelines and strategies for Lake Powell and Lake Mead (referred to as “post-2026 operations”). Several important reservoir and water management decisional documents and agreements that govern operation of Colorado River facilities and management of Colorado River water are currently scheduled to expire at the end of 2026. Through this Federal Register notice, Reclamation is formally initiating the process to prepare an environmental impact statement (EIS) for the development of post-2026 operations.

DATES: This Federal Register notice initiates the public scoping process for the EIS. Reclamation requests that the public submit comments concerning the scope of specific operational guidelines, strategies, and any other issues that should be considered on or before August 15, 2023.

Reclamation will host three virtual public meetings/webinars to provide summary information and receive oral comments:

• Monday, July 17, 2023, 1 p.m. to 2 p.m. (MDT)

• Tuesday, July 18, 2023, 10 a.m. to 11 a.m. (MDT)

• Monday, July 24, 2023, 6 p.m. to 7 p.m. (MDT)

ADDRESSES: Please send written comments pursuant to this notice to crbpost2026@usbr.gov or Bureau of Reclamation, Attn: Post-2026 (Mail Stop 84-55000), P.O. Box 25007, Denver, CO 80225.

The registration link for the webinar held on Monday, July 17, 2023, is https://swca.zoom.us/webinar/register/WN_-_hvFoMcRJ-I98k4n7-GvQ, or the dial in option (audio only) is (602) 753-0140 or (720) 928-9299; Webinar ID: 918 5524 0606.

The registration link for the webinar held on Tuesday, July 18, 2023, is https://swca.zoom.us/webinar/register/WN_sbSwzBJhQ66Z-E65TGXX1g, or the dial in option (audio only) is (602) 753-0140 or (720) 928-9299; Webinar ID: 963 7946 3234.

The registration link for the webinar held on Monday, July 24, 2023, is https://swca.zoom.us/webinar/register/WN_r0ozNRpmRu-hmEpYxe0-Qg, or the dial in option (audio only) is (602) 753-0140 or (720) 928-9299; Webinar ID: 949 1587 3150.

FOR FURTHER INFORMATION CONTACT: Amanda Erath, Colorado River Post-2026 Program Coordinator, Bureau of Reclamation, at (303) 445-2766, or by email at crbpost2026@usbr.gov. Please also visit the project website at https://www.usbr.gov/ColoradoRiverBasin/Post2026Ops.html. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that Reclamation intends to prepare an EIS for post-2026 operations and conduct public scoping. Reclamation is issuing this Federal Register notice pursuant to the National Environmental Policy Act of 1969, as amended (NEPA), 42 U.S.C. 4321 et seq.; the Council on Environmental Quality's regulations for implementing NEPA, 43 CFR parts 1500 through 1508; and the Department of the Interior (Department or Interior) NEPA regulations, 43 CFR part 46.

Background

The Colorado River Basin has been in a prolonged period of drought and low-runoff conditions, and despite current projections of 2023 runoff being well above average, the period from 2000 through 2023 is currently estimated as the second driest period in more than a century and one of the driest periods in the last 1,200 years. From 2000 to 2004, Lake Powell and Lake Mead lost nearly half of their combined storage. The onset of this period of acute drought spurred the development of the 2007 Interim Guidelines for Lower Basin Shortages and Coordinated Operations for Lake Powell and Lake Mead (2007 Interim Guidelines). Over the past 15 years since the adoption of the 2007 Interim Guidelines, as drought and low-runoff conditions continued, additional responsive actions were needed to complement the 2007 Interim Guidelines (e.g., 2019 Colorado River Basin Drought Contingency Plan (DCP)). At the end of 2026, a number of reservoir and water management decisional documents and agreements that govern the operation of Colorado River facilities and management of the Colorado River are scheduled to expire. These include the 2007 Interim Guidelines, the DCP, and other important management documents within the United States, as well as Minute 323 between the United States and Mexico pursuant to the United States-Mexico Treaty on Utilization of Waters of the Colorado and Tijuana Rivers and of the Rio Grande (1944 Water Treaty).

Since 2021, the Department has undertaken several actions to protect critical infrastructure in response to declining reservoir elevations and the deepening of drought conditions from 2020 to 2022. As the summer of 2022 ended with near record low elevations in Lake Powell and Lake Mead, the Department recognized that, absent a change in hydrologic conditions, water use patterns, or both, Colorado River reservoirs would continue to decline to critically low elevations before the 2007 Interim Guidelines expired. In order to modify guidelines for the operation of Glen Canyon and Hoover Dam for the remainder of the interim period (through 2026) to address these historic drought and low runoff conditions in the Basin, the Department initiated a NEPA process on November 17, 2022, to prepare a Supplemental Environmental Impact Statement (SEIS) for Near-term Colorado River Operations. The draft SEIS was released for public review on April 14, 2023. In light of the Lower Basin states' consensus-based system conservation proposal submitted on May 22, 2023, the Department temporarily withdrew the draft SEIS so that it can fully analyze the effects of the proposal under NEPA. Reclamation intends to publish an updated draft SEIS for public comment with the consensus-based proposal as an action alternative and finalize the SEIS process later this year.

Recognizing the need to begin to develop long-term strategies for Colorado River operations while simultaneously addressing the current drought conditions and preparing for the potential of continuing low runoff and low reservoir conditions, the Department published a Federal Register notice on June 24, 2022 (87 FR 37884), related to post-2026 operations. In that Federal Register notice, the Department specifically requested public input on procedural approaches to developing the post-2026 operational strategies (process) and potential substantive elements of post-2026 operations. In response, the Department received substantial input from States, Tribes, water districts, non-governmental organizations, and the public. The input received has been summarized in a “Pre-Scoping Summary Report” (Available at https://www.usbr.gov/ColoradoRiverBasin/documents/Post-2026_Pre-Scoping%20Comment%20Summary%20Final_Updated1.30.2023_508.pdf) and is being considered and integrated into this NEPA process. This NOI follows that important early opportunity for public input, and formally initiates the post-2026 NEPA process.

With respect to the relationship between the ongoing SEIS process and the post-2026 process, the November 2022 Federal Register notice was clear that the SEIS: “does not interfere with, supplant, or supersede that separate post-2026 guidelines development process. Rather, this SEIS will inform and complement the development of post-2026 guidelines.” The SEIS is focused on limited sections of the 2007 Interim Guidelines to develop the operational tools necessary to address potential extreme drought conditions during the 2024 to 2026 timeframe. In contrast, the post-2026 process will address the subsequent timeframe and revisit all sections of the 2007 Interim Guidelines and other operating agreements that expire in 2026 (e.g., the DCP). The appropriate scope of post-2026 operations will be determined after conclusion of the public scoping process.

The June 2022 Federal Register notice for pre-scoping for post-2026 operations anticipated “that near-term response actions and development of post-2026 operations will need to proceed on parallel timelines.” The SEIS and post-2026 processes are now underway and proceeding simultaneously as predicted. Every effort will be made to provide clear and timely information regarding the milestones for public engagement in the post-2026 process to minimize the stakeholder and public burden of tracking and engaging in both efforts.

Purpose of This Notice of Intent

To assure the continued stability of the Colorado River system into the future, Reclamation announces its intent to prepare an EIS for post-2026 operations and is now soliciting public comments on the scope of specific operational guidelines, strategies, and any other related issues that should be considered in the upcoming EIS.

Reclamation invites all interested members of the public, including the seven Colorado River Basin States, Tribes, water and power contractors, representatives of the agricultural industry, municipal water providers, environmental organizations, representatives of the recreation industry, representatives of academic and scientific communities and other organizations and agencies to provide oral and written comments. Reclamation anticipates publishing a “scoping report” after completion of the public scoping meetings and the close of the comment period identified in this Federal Register notice.

All comments received will be considered as Reclamation develops the proposed federal action, Purpose and Need, and scope of the analysis (e.g., affected area, geographic scope, time horizon/term). Similar to operational guidelines currently in place, it is likely that the post-2026 operational guidelines will be interim. Despite their interim nature, it is the Department's intent that these operational guidelines and strategies are sufficiently robust and adaptive and can withstand a broad range of future conditions thereby providing greater operational and planning stability to water users and the public throughout the Colorado River Basin.

June 2022 Request for Input on Development of Post-2026 Colorado River Operational Strategies

In response to the June 2022 pre-scoping Federal Register notice, Reclamation heard from over 80 stakeholders and partners as well as over 2,000 members of the public. As noted above, in January 2023, Reclamation published a “Pre-Scoping Comment Summary Report” on its website describing and summarizing the input received and hosted a public outreach event on January 30, 2023, to communicate the findings.

The input received in response to the June 2022 Federal Register notice included a broad range of comments and suggestions, not all of which can be addressed in this proposed process or described in this NOI. In addition, some suggestions may be part of ongoing or future efforts. However, some widely expressed themes related to the nature of future operational guidelines and strategies are actively being considered in our approach during the early stages of planning for this NEPA process:

• Future operational guidelines and strategies must support proactive management to improve system stability and avoid continuously managing in response to crises. To achieve this, future operational guidelines and strategies must be capable of both withstanding a broad range of future hydrologic and operating conditions and minimizing system vulnerability, i.e., they must be more robust and adaptive than current strategies.

• Future operational guidelines and strategies should incorporate a more holistic approach to Colorado River water management in a way that focuses on the long-term sustainability of both the Basin's population and natural environment, minimizes system vulnerability, and increases system resiliency.

• Coordinated operation of Lake Powell and Lake Mead is one of multiple ways that the system can be managed. Alternative paradigms, e.g., basing reservoir operations on combined reservoir or system storage, should be explored.

Structure of the 2007 Interim Guidelines and Operating Experience

The purpose of the 2007 Interim Guidelines was determined in the early stages of the NEPA process to develop the 2007 Interim Guidelines and consists of three components. As stated in Section IV of the 2007 Interim Guidelines, the purpose is to:

• “improve Reclamation's management of the Colorado River by considering trade-offs between the frequency and magnitude of reductions of water deliveries, and considering the effects on water storage in Lake Powell and Lake Mead, and on water supply, power production, recreation, and other environmental resources;

• provide mainstream United States users of Colorado River water, particularly those in the Lower Division states, a greater degree of predictability with respect to the amount of annual water deliveries in future years, particularly under drought and low reservoir conditions; and

• provide additional mechanisms for the storage and delivery of water supplies in Lake Mead to increase the flexibility of meeting water use needs from Lake Mead, particularly under drought and low reservoir conditions.”

Despite the additional agreements and actions undertaken since the adoption of the 2007 Interim Guidelines and on-going processes, the four elements of the 2007 Interim Guidelines, collectively intended to meet the purpose, have remained intact. These elements are:

• Shortage Guidelines: Determines those conditions under which the Secretary would reduce the annual amount of water available for consumptive use from Lake Mead to the Lower Division states below 7.5 million acre-feet pursuant to the Consolidated Decree.

• Coordinated Reservoir Operations: Defines the coordinated operations of Lake Powell and Lake Mead to provide improved operation of these two reservoirs, particularly under low reservoir conditions. As described in Section XI.G.6. of the Record of Decision, the objective of the operation of Lake Powell and Lake Mead is “to avoid curtailment of uses in the Upper Basin, minimize shortages in the Lower Basin and not adversely affect the yield for development available in the Upper Basin.”

• Storage and Delivery of Conserved Water: Allows for the storage and delivery, pursuant to applicable federal law, of conserved Colorado River System and non-System water in Lake Mead to increase the flexibility of meeting water use needs from Lake Mead, particularly under drought and low reservoir conditions.

• Surplus Guidelines: Determines those conditions under which the Secretary may declare the availability of surplus water for use within the Lower Division states. Modifies the substance of the Interim Surplus Guidelines existing at the time the Guidelines were adopted by extending the term from 2016 to 2026 and terminating the most permissive provision.

The interim nature of the 2007 Interim Guidelines provided the opportunity to gain valuable experience in the management of Lake Powell and Lake Mead, improving the basis of understanding for future operational decisions. First implemented in 2008, Reclamation now has over 15 years of operational experience under the 2007 Interim Guidelines. Section XI.G.7.D. of the 2007 Interim Guidelines required the documentation of this experience and an evaluation of the effectiveness of the 2007 Interim Guidelines. In fulfilment of this provision, in December 2020, Reclamation published on its website “Review of the Colorado River Interim Guidelines for Lower Basin Shortages and Coordinated Operations for Lake Powell and Lake Mead” (Available at https://www.usbr.gov/ColoradoRiverBasin/#7.D.Review) (the 2020 7.D. Review).

The 2020 7.D. Review found that while the 2007 Interim Guidelines were effective at meeting their overall purpose, the increasing severity of the drought and prolonged period of low runoff demonstrated that the 2007 Interim Guidelines were insufficiently robust to protect reservoir storage, requiring the adoption of the DCPs and other responsive adaptive actions, both within the United States and in cooperation with Mexico.

The 2020 7.D. Review also documented important considerations for enhancing future effectiveness: (1) enhanced flexibilities and transparency for water users; (2) expanded participation in conservation and Basin-wide programs; (3) increased consideration of the linkage that occurs through coordinated reservoir operations, particularly with respect to the uncertainties inherent in model projections used to set operating conditions; and (4) more robust measures to protect reservoir levels.

Following the publication of the 2020 7.D. Review, as low snowpack and runoff conditions worsened, Reclamation undertook emergency and other drought response actions in 2021 and 2022 to protect infrastructure and operations at Glen Canyon Dam. In the November 2022 Federal Register notice, the Department found that due to the existence of “extraordinary circumstances” per Section 7.D of the 2007 Interim Guidelines, modified operating provisions may be required in order to ensure Glen Canyon Dam continues to operate under its intended design and to protect Hoover Dam operations, system integrity, and public health and safety and initiated the on-going SEIS process.

Considering the past 15 years of operating experience, the findings described in the 2020 7.D. Review, the themes expressed in response to the June 2022 Federal Register notice, and the information included in this NOI; Interior is interested in receiving specific input on how the purpose and the elements of the 2007 Interim Guidelines should be retained, modified or eliminated to provide greater stability to water users and the public throughout the Colorado River Basin through robust and adaptive operational guidelines. This input will be used to inform our decision on the proposed federal action, Purpose and Need, and scope of the analysis (e.g., affected area, geographic scope, time horizon/term).

Elements of Process Designed to Date

In the June 2022 Federal Register notice, Reclamation identified that it intends to design and implement a stakeholder process for this EIS that is inclusive, transparent, and encourages meaningful engagement. Using the input received during that comment period and correspondence from Basin partners, Reclamation is in the early stages of developing certain components of its engagement and outreach approaches.

With respect to developing alternatives, input received in response to the June 2022 Federal Register notice suggested that Reclamation expand beyond its traditional methods of engagement and requested an inclusive process that encourages collaboration and supports the exploration of a broad range of creative operational strategies. To this end, and among other potential approaches, Reclamation is working with experts to develop a web-based tool that enables users with different levels of technical skill to explore, create, and compare potential operating strategies to enhance development of alternatives. The use of this common, accessible platform is just one part of Reclamation's stated goals of improving stakeholder and partner knowledge and engagement that supports external parties in developing strategies and provides the public greater and more timely access to relevant technical information.

In anticipation of the target Fall 2023 launch of the tool, Reclamation has convened an Integrated Technical Education Workgroup that is actively working to ensure that stakeholders are better prepared and able to engage in a robust alternatives development process. While it is valuable during this comment period to communicate ideas about the concepts and structures that could be included in alternatives, it is not necessary to submit comprehensive alternatives before the more focused period of alternatives development begins this fall.

With respect to the timing and structure of outreach during the NEPA process, Reclamation intends to develop an approach that facilitates inclusion at multiple levels and enhances tribal engagement and inclusivity. This structure for partner, stakeholder and public engagement will include individualized outreach, leverage existing groups and forums, create new groups and forums, and provide for clear and timely communication with the public.

Through the individualized partner and stakeholder outreach, Reclamation will be available for meetings upon request and will prioritize regular, meaningful, and robust consultation with Tribal Nations. Existing forums and groups will be continued and leveraged, such as the monthly Reclamation-hosted Tribal Information Exchanges. Reclamation is also exploring options for increasing tribal involvement through the potential development of new groups and forums. In addition to timely and clear communication with the public at regular NEPA milestones, Reclamation intends to set up a broad partner-stakeholder group to ensure a full understanding of each upcoming step in the NEPA process.

As discussed in the June 2022 Federal Register notice, the Department is also committed to identifying processes that can complement the efforts of the International Boundary and Water Commission (IBWC) to develop post-2026 agreements that would succeed current agreements contained in Minute 323 to the 1944 Water Treaty. The Department will continue to coordinate with the IBWC to ensure Interior-led domestic planning processes are implemented in a coordinated and complementary fashion to those of the IBWC with a goal of ensuring similar timelines for informed decision making.

Public Disclosure of Comments

Before including your address, phone number, email address, or other personal identifying information in your comment, you should be aware that your entire comment—including your personal identifying information—may be made publicly available at any time. While you can ask us in your comment to withhold your personal identifying information from public review, we cannot guarantee that we will be able to do so.

Maria Camille Touton,
Commissioner, Bureau of Reclamation.

[FR Doc. 2023-12923 Filed 6-15-23; 8:45 am]

BILLING CODE 4332-90-P